SOCIAL SECURITY ADMINISTRATION

[Docket No. SSA-2011-0035]

Agency Self-Evaluation Under Section 504 of the Rehabilitation Act of 1973; Public Forums on Accessibility for Individuals With Disabilities

AGENCY: Social Security Administration .

ACTION: Notice of Public Forums.

SUMMARY: On November 5, 2010, we announced that we were initiating a self-evaluation of our policies and practices supporting Section 504 of the Rehabilitation Act of 1973. Section 504 requires Federal agencies to provide meaningful access to their programs, activities, and facilities for qualified persons with disabilities.

DATES: The forum dates are (1) August 17, 2011, 09:30 a.m. to 04 p.m., and (2) September 20, 2011, 09:30 a.m. to 04 p.m., E.D.T. On August 17, 2011, we are accepting comments related to our policies and facilities. On September 20, 2011, we are accepting comments related to our information technology (IT) and communications.

In addition, we will record and stream each public forum live on the Internet. Accordingly, each person who attends the public forum is deeming his or her consent to being recorded and understands that the recording will be streamed live on the internet during the event and available thereafter for public viewing. You may view the webcast of each forum on our Web site at http://www.socialsecurity.gov/accessibility/section504.

ADDRESSES: The location for the forums is Social Security Administration, One Skyline Tower, 5107 Leesburg Pike, Falls Church, VA 22041.

Comments: We have scheduled public forums on August 17, 2011 and September 20, 2011 as part of our Section 504 Self-Evaluation. The purpose of the public forums is to help us evaluate the current level of accessibility of our programs, activities, and facilities and to gather comments for ways that we might improve accessibility. We will focus on a number of topics at each public forum as part of this self-evaluation, and interested persons will have an opportunity to express their views. We are particularly interested in comments from persons with disabilities, their family members, and those who work with, or advocate for, persons with disabilities. Space is limited; therefore, we encourage all organizations and individuals who wish to attend the public forums or provide comments via telephone to register in advance using our online registration form at http://www.socialsecurity.gov/accessibility/section504 or by calling the Section 504 Information Line at 1-877-794-7395 (Voice) or 1-800-325-0778 (TTY) at least ten business days before the public forum date.

While the public is invited, only those who register in advance and receive schedule confirmation will be permitted to provide input. Organizations should designate no more than one person to comment on their behalf. Organizations or individuals may comment in person, by telephone, or by telephone relay service. Prior to the forum, we will try to tell each interested individual the approximate time when he or she can comment during the public forum. Those who register to comment by telephone or telephone relay service should be available at the telephone or TTY number they provide during registration at least one-half hour before their scheduled time to comment.

We will limit comments to five minutes per person or organization. Commenters may supplement their comments with written statements that will become part of the official public forum record. If we determine that there is not enough time to hear from all those wishing to present comments, we will select among those wishing to testify to ensure representation of a range of viewpoints and interests.

Registration: We encourage all organizations and individuals who wish to attend the public forums or provide comments via telephone to register in advance using our online registration form at http://www.socialsecurity.gov/accessibility/section504 or by calling the Section 504 Information Line at 1-877-794-7395 (voice) or 1-800-325-0778 (TTY) at least ten business days before the public forum date.

FOR FURTHER INFORMATION CONTACT: Mariangela Rosa, Social Security Administration, 6401 Security Boulevard, Baltimore, MD 21235-6401, 1-877-794-7395. For information on eligibility or filing for benefits, call our national toll-free number, 1-800-772-1213 or TTY 1-800-325-0778, or visit our Internet site, Social Security Online at http://www.socialsecurity.gov.

SUPPLEMENTARY INFORMATION: The forum Web site will be accessible to individuals with disabilities, in accordance with Section 508 of the Rehabilitation Act. At the forums, we will provide sign language interpreters and real-time captioning. Individuals who require other accommodations or auxiliary aids should contact Mariangela Rosa at 1-877-794-7395 or by e-mail at SSA.504@ssa.gov no later than ten days before the date of the forum that they wish to attend.

Additional information, including information about accessible public transportation and parking, is available on the Social Security Administration Web site at http://www.socialsecurity.gov/accessibility/section504. The current Section 504 regulation is available electronically in accessible formats at http://www.regulations.gov. This public forum notice is available electronically in Section 508-accessible formats at http://www.socialsecurity.gov/accessibility/section504. Copies of this notice also are available in formats accessible to individuals who are blind or have low vision by calling the Section 504 Information Line at 1-877-794-7395 (Voice) or 1-800-325-0778 (TTY).

Written Comments: Those persons who are not available to participate in real-time in the public forums are encouraged to submit written comments by Internet, fax, or mail. Do not submit the same comments multiple times or by more than one method. In your submission, please state that your comments refer to Docket No. SSA-2011-0035 so that we may associate your comments with the correct document.

Deadline for Comments: We must receive written comments by October 31, 2011. Will we respond to your comments? We will carefully consider your comments; however we will not respond directly to comments sent in response to this notice or the forum. In addition, we are not able to process or respond to any information or questions about your claim for benefits that you submit in the public forum or comments process.

Caution: You should be careful to include in your comments only information that you wish to make publicly available. We strongly urge you not to include any personal information, such as Social Security numbers or medical information, or anything you do not wish for us to make public. We will accept anonymous written comments. We will not respond to your comments, but we will consider them as we work through our Section 504 self-evaluation. Please do not send any information or questions about your claim for benefits.

(1) Internet: We strongly recommend that you submit your written comments by the Internet. Please visit the Federal eRulemaking portal at http://www.regulations.gov. Use the Search function to find Docket No. SSA-2011-0035. The system will issue a tracking number to confirm your submission. You will not be able to view your comment immediately because we must review and post each comment manually. It may take up to a week for your comment to appear online.

(2) Fax: Fax your comments to (410) 966-2830.

(3) Mail: Mail your comments to the Office of Regulations, Social Security Administration, 107 Altmeyer Building, 6401 Security Boulevard, Baltimore, Maryland 21235-6401. Comments that we receive will be available for public viewing on the Federal eRulemaking portal at http://www.regulations.gov.

Dated: July 27, 2011.
Michael J. Astrue,
Commissioner of Social ecurity.

[FR Doc. 2011-19510 Filed 8-1-11; 8:45 am]

BILLING CODE 4191-02-P